AFRICAN DEVELOPMENT FOUNDATION

Sunshine Act Meeting

Meeting: African Development Foundation, Board of Directors Meeting.

Time: Wednesday, February 6, 2008, 2:30 p.m. to 4:30 p.m.

Place: African Development Foundation, Conference Room, 1400 I Street, NW., Suite 1000, Washington, DC 20005.

DATES: Wednesday, February 6, 2008.

Status: 1. Closed session, Wednesday, February 6, 2008, 2:30 p.m. to 3:30 p.m.; and

2. Open session, Wednesday, February 6, 2008, 3:30 p.m. to 4:30 p.m.

Due to security requirements and limited seating, all individuals wishing to attend the open session of the meeting must notify Doris Martin, General Counsel, at (202) 673-3916 or Michele M. Rivard at mrivard@usadf.gov of your request to attend by 12 p.m. on Monday, February 4, 2008.

Doris Martin,
Acting President.

[FR Doc. 08-395 Filed 1-25-08; 12:02 pm]

BILLING CODE 6117-01-P